FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel—Operating Common Carrier Ocean Transportation Intermediary Applicants:

Platinum Moving Services, LLC, 2 Cessna Court, Gaithersburg, MD 20879. Officers: Raquel Fazio, Manager (Qualifying Individual), Eduardo Jorge Fazio, Gen. Manager.

APL Logistics Ltd., 456 Alexandra Road, #06-00, NOL Building, Singapore 119962, Officers: Ian Moore, Manager Product Development (Qualifying Individual), Cheng Wai Keung, Director.

Duncan International Shipping, 1082 Rodgers Avenue, Brooklyn, NY 11226, Noel N. Griffith, Sole Proprietor.

Sola Forwarding Inc., 70 Bowery Street, Suite 204, New York, NY 10013, Officers: Kit Yee Man, Vice President (Qualifying Individual), Kenneth Tran, President.

La Solucion Cargo Express Inc., 3900 S.W. 52nd Ave., #401, Hollywood, FL 33023. Officer: Hermogenes R. Simo, President (Qualifying Individual).

Oconca Logistics (USA) Inc., 175-01 Rockaway Blvd., Suite 218, Jamaica, NY 11434. Officers: Xiao Jun He, Vice President (Qualifying Individual), Yuan Li, President.

Non-Vessel—Operating Common Carrier and Ocean Freight Forwarder Transportation Intermediary Applicants:

Logitech Shipping, Inc., 838 Pine Avenue, #108, Long Beach, CA 90813. Officer: Johnny Moegelvang Hyldmar, President (Qualifying Individual).

Ocean Express Marine USA Inc., 33 Arbor Drive, Howell, NJ 07731 Officer: Hassanein Moustafa Mohamed Youssef, President (Qualifying Individual).

PRO Cargo Solutions, Inc., 23924 Pennsylvania Ave., Suite #3, Lomita, CA 90717. Officer: Su Gyung Kim, President (Qualifying Individual).

Sea & Air Global Inc., 811 N. Catalina Avenue, #3012, Redondo Beach, CA 90277. Officer: Laurent Saluzeat, President (Qualifying Individual).

Ocean Freight Forwarder—Ocean Transportation Intermediary Applicants:

EFM Management, Inc., 2551 Santa Fe Avenue, Redondo Beach, CA 90278. Officer: Steve Botting, Vice President (Qualifying Individual).

Freight Yours, Inc., 1164 West Duarte Road, #12A, Arcadia, CA 91007. Officers: Roberta Lee, CEO (Qualifying Individual), Cecilia Lee, Secretary.

SMSI International Inc., 7566 Pinewood Tr., West Bloomfield, WI 48322, Officer: Yevgeniy Eposhteyn, Vice President (Qualifying Individual).

Dated: December 15, 2006.
Karen V. Gregory,
Assistant Secretary.

[FR Doc. E6-21756 Filed 12-19-06; 8:45 am]

BILLING CODE 6730-01-P